DEPARTMENT OF TRANSPORTATION

Federal Railroad Administration

[Docket Number FRA-2002-11809]

Petition for Waiver of Compliance

Under part 211 of Title 49 Code of Federal Regulations (CFR), this provides the public notice that on January 29, 2018, the North County Transit District (NCTD) petitioned the Federal Railroad Administration (FRA) for an extension of its existing waiver of compliance from certain provisions of the Federal railroad safety regulations contained. FRA assigned the petition docket number FRA-2002-11809.

In its petition, NCTD seeks to extend the relief granted in its existing shared use waiver, which was originally granted by FRA's Railroad Safety Board (Board) on May 1, 2003; modified in 2006; and extended and modified in 2013. This shared use waiver applies to operation of the SPRINTER rail fixed guideway transit system between Oceanside, California, and Escondido, CA over the BNSF Railway's (BNSF) Escondido Subdivision. SPRINTER operates for 22 miles with temporal separation from the Pacific Sun Railroad which is contracted by BNSF. The exclusive passenger period is from 3:45 a.m. until 9:45 p.m. Sunday through Thursday, and 3:45 a.m. until 12:00 a.m. (midnight) Friday through Saturday.

NCTD continues to seek relief from 49 CFR part 210, Railroad Noise Emission Compliance Regulations; part 217, Railroad Operating Rules; part 219, Control of Alcohol and Drug Use; part 221, Rear End Marking Device-Passenger, Commuter, and Freight Trains; sections 223.9(c), 223.9(d), 223.15(c), and 223.17 of the Safety Glazing Standards—Locomotives, Passenger Cars and Cabooses; part 228, Hours of Service of Railroad Employees; Recordkeeping and Reporting; Sleeping Quarters, where applicable for operators only; part 231, Railroad Safety Appliance Standards; part 238, Passenger Equipment Safety Standards; part 239, Passenger Train Emergency Preparedness; part 240, Locomotive Engineer Certification. NCTD continues to seek partial relief from 49 CFR part 225, Railroad Accidents/Incidents: Reports Classification, and Investigations, except with regard to reporting train and highway-rail grade crossing accidents to FRA, as employee injuries may be reported under Federal Transit Administration (FTA) or Occupational Safety and Health Administration rules; and relief from part 229, Railroad locomotive safety standards, except from sections 229.125(a)-(f).

In its petition, NCTD states there have been no deficiencies with its operation since the last approval in 2013 and that NCTD, Pacific Sun Railroad, and the California Public Utilities Commission (CPUC) have continually interfaced with FRA Regional staff to monitor safety.

CPUC is the State Safety Oversight Agency (SSOA) providing equivalent safety oversight in accordance with the terms and conditions set forth in FTA regulations at T49 CFR part 659, Rail Fixed Guideway State Safety Oversight, in CPUC General Order 164-D, Rules and regulations Governing State Safety Oversight of Rail Fixed Guideway Systems, and in CPUC General Order 143-B, Design, Construction and Operation of Light Rail Transit Systems.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by April 2, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2018-03210 Filed 2-15-18; 8:45 am]

BILLING CODE 4910-06-P